DEPARTMENT OF AGRICULTURE

Agricultural Marketing Service

[Docket. No. ST03-02]

Recordkeeping Requirements for Certified Applicators of Federally Restricted Use Pesticides; Section 610 Review

AGENCY: Agricultural Marketing Service, USDA.

ACTION: Notice of review and request for comments.

SUMMARY: This notice of review announces that the Agricultural Marketing Service (AMS) plans to review (7 CFR part 110) Recordkeeping Requirements for Certified Applicators of Federally Restricted Use Pesticides, under criteria contained in section 610 of the Regulatory Flexibility Act (RFA).

DATES: Written comments on this notice must be received by July 1, 2003.

ADDRESSES: Interested persons are invited to submit written comments concerning this notice of review. Comments must be sent to Bonnie Poli, Pesticide Records Branch, Science and Technology, AMS, USDA, 8609 Sudley Road, Suite 203, Manassas, Virginia 20110-4582; Fax: (703) 330-6110 or E-mail: amspesticides.records@usda.gov. All comments should reference the docket number and the date and page number of this issue of the Federal Register and will be made available for public inspection at the USDA Pesticide Records Branch, 8609 Sudley Road, Suite 203, Manassas, Virginia during regular business hours.

FOR FURTHER INFORMATION CONTACT: Bonnie Poli, Pesticide Records Branch, AMS, USDA, 8609 Sudley Road, Suite 203, Manassas, Virginia 60110; telephone (703) 330-7826 or E-mail: bonnie.poli@usda.gov.

SUPPLEMENTARY INFORMATION: Recordkeeping Requirements for Certified Applicators of Federally Restricted Use Pesticides, as amended (7 CFR part 110) require certified pesticide applicators to maintain records of federally restricted use pesticide applications for a period of 2 years. The regulations also provide for access to pesticide records by Federal or State officials, or access to record information by licensed health care professionals when needed to treat an individual who may have been exposed to restricted use pesticides, and penalties for enforcement of the recordkeeping and access provisions. The regulation is effective under the Food, Agriculture, Conservation, and Trade Act of 1990, (Pub. L. 101-624; 7 U.S.C. 136i-1).

AMS initially published in the Federal Register (63 FR 8014; February 18, 1999), its plan to review certain regulations, including the Recordkeeping Requirements for Certified Applicators of Federally Restricted Use Pesticides, under criteria contained in section 610 of the Regulatory Flexibility Act (RFA; U.S.C. 601-612). An updated plan was published in the Federal Register on January 4, 2002 (67 FR 525). Because many AMS regulations impact small entities, AMS has decided, as a matter of policy, to review certain regulations which, although they may not meet the threshold requirement under section 610 of the RFA, warrant review.

The purpose of the review will be to determine whether the rule should be continued without change, or should be amended or rescinded (consistent with the objectives of applicable statutes) to minimize impacts on small businesses. In conducting this review, AMS will consider the following factors: (1) The continued need for the rule; (2) the nature of complaints or comments received from the public concerning the rule; (3) the complexity of the rule; (4) the extent to which the rule overlaps, duplicates, or conflicts with other Federal rules, and, to the extent feasible, with State and local governmental rules; and (5) the length of time since the rule has been evaluated or the degree to which technology, economic conditions, or other factors have changed in the area affected by the rule.

Written comments, views, opinions, and other information regarding the Recordkeeping Requirements for Certified Applicators of Federally Restricted Use Pesticides rule impact on small businesses are invited.

Dated: April 28, 2003.
Kenneth C. Clayton,
Acting Administrator, Agricultural Marketing Service.

[FR Doc. 03-10870 Filed 5-1-03; 8:45 am]

BILLING CODE 3410-02-P